DEPARTMENT OF EDUCATION

National Advisory Committee on Institutional Quality and Integrity (NACIQI)

AGENCY: National Advisory Committee on Foreign Medical Education and Accreditation (NCFMEA), Office of Postsecondary Education, Department of Education.

ACTION: Update-Notice Seeking Nominations for the NCMFEA.

ADDRESSES: U.S. Department of Education, Office of Postsecondary Education, 1990 K Street NW., Room 8072, Washington, DC 20006.

SUMMARY: This notice is an update to the previous notice published in the Federal Register (79 FR 28919) on May 20, 2014.

Please note that the email address for the U.S. Department of Education, White House Liaison is whitehouseliaison@ed.gov. In addition, please be advised that the deadline for submission of nominations either electronically or via mail has been extended to no later than 12 noon Eastern Standard Time, June 23, 2014. As noted in the May 20, 2014 notice, instructions for submitting nominations are as follows:

Any interested person or organization may nominate one or more qualified individuals for membership. If you would like to nominate an individual or yourself for appointment to the NCFMEA (including incumbents who wish to seek reappointment), please submit the following information to the U.S. Department of Education's White House Liaison Office.

• A cover letter addressed to the Secretary of Education that provides your reason(s) for nominating the individual; and

• A copy of the nominee's current resume or curriculum vitae.

• Contact information for the nominee (name, title, business address, business phone, fax number, and business email address).

In addition, the cover letter must include a statement affirming that the nominee (if you are nominating someone other than yourself) has agreed to be nominated and is willing to serve on the Committee if selected. Nominees should be broadly knowledgeable about foreign medical education and accreditation, respected in the educational community, and representative of the relevant constituencies.

You may submit nominations, including attachments by any of the following methods:

• Electronically: Send to whitehouseliaison@ed.gov specify in the email subject line “NCFMEA Nomination”).

• Mail, express delivery, hand delivery, messenger, or courier service: Submit one copy of the documents listed above to the following address: The Honorable Arne Duncan, Secretary of Education, ATTN: White House Liaison Office, U.S. Department of Education, 400 Maryland Avenue SW., Washington, DC 20202.

Please submit nomination information via only one (1) of the methods mentioned above.

FOR FURTHER INFORMATION CONTACT: Carol Griffiths, Executive Director, NCFMEA, U.S. Department of Education, 1990 K Street NW., Room 8073, Washington, DC 20006-8129, telephone: (202) 219-7035, fax: (202) 219-7005, or email: Carol.Griffiths@ed.gov.

For questions about the nominations process contact the U.S. Department of Education, White House Liaison Office at (202) 401-3677.

Electronic Access to this Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Lynn B. Mahaffie,
Senior Director, Policy Coordination, Development, and Accreditation Service delegated the authority to perform the functions and duties of the Assistant Secretary for Postsecondary Education.

[FR Doc. 2014-13173 Filed 6-5-14; 8:45 am]

BILLING CODE 4000-01-P